SECURITIES AND EXCHANGE COMMISSION

[Release No. IC-26343]

Notice of Applications for Deregistration Under Section 8(f) of the Investment Company Act of 1940

January 30, 2004.

The following is a notice of applications for deregistration under section 8(f) of the Investment Company Act of 1940 for the month of January, 2004. A copy of each application may be obtained for a fee at the SEC's Public Reference Branch, 450 Fifth St., NW., Washington, DC 20549-0102 (tel. 202-942-8090). An order granting each application will be issued unless the SEC orders a hearing. Interested persons may request a hearing on any application by writing to the SEC's Secretary at the address below and serving the relevant applicant with a copy of the request, personally or by mail. Hearing requests should be received by the SEC by 5:30 p.m. on February 24, 2004, and should be accompanied by proof of service on the applicant, in the form of an affidavit or, for lawyers, a certificate of service. Hearing requests should state the nature of the writer's interest, the reason for the request, and the issues contested. Persons who wish to be notified of a hearing may request notification by writing to the Secretary, SEC, 450 Fifth Street, NW., Washington, DC 20549-0609. For Further Information Contact: Diane L. Titus at (202) 942-0564, SEC, Division of Investment Management, Office of Investment Company Regulation, 450 Fifth Street, NW., Washington, DC 20549-0504.

CCM Advisors Fund [File No. 811-10241]

Summary: Applicant, a master fund in a master-feeder structure, seeks an order declaring that it has ceased to be an investment company. On June 30, 2003, applicant made a liquidating distribution to its shareholders, based on net asset value. Expenses of $25,975 incurred in connection with the liquidation were paid by applicant and CCM Advisors LLC, applicant's investment adviser.

Filing Date: The application was filed on December 31, 2003.

Applicant's Address: 190 South LaSalle St., Suite 2800, Chicago, IL 60603.

Anchor International Bond Trust [File No. 811-4644]

Summary: Applicant seeks an order declaring that it has ceased to be an investment company. On November 19, 2003, applicant made a liquidating distribution to its shareholders, based on net asset value. Expenses of $8,786 incurred in connection with the liquidation were paid by applicant's investment adviser, F.L. Putnam Investment Management Co.

Filing Date: The application was filed on December 24, 2003.

Applicant's Address: 579 Pleasant St., Suite 4, Paxton, MA 01612.

The Willamette Funds [File No. 811-10275]

Summary: Applicant seeks an order declaring that it has ceased to be an investment company. On September 19, 2003, applicant transferred its assets to The Integrity Funds, based on net asset value. Expenses of $109,000 incurred in connection with the reorganization were paid by applicant, the acquiring fund, and Integrity Money Management, Inc., investment adviser to the acquiring fund.

Filing Dates: The application was filed on November 19, 2003, and amended on December 30, 2003.

Applicant's Address: 220 NW 2nd Ave., Suite 950, Portland, OR 97209.

State Street Research Growth Trust [File No. 811-985]

Summary: Applicant seeks an order declaring that it has ceased to be an investment company. On February 24, 2003, applicant transferred its assets to State Street Research Legacy Fund, a series of State Street Research Securities Trust, based on net asset value. Expenses of $45,816 incurred in connection with the reorganization were paid by applicant and the acquiring fund.

Filing Dates: The application was filed on December 2, 2003, and amended on January 2, 2004.

Applicant's Address: One Financial Center, Boston, MA 02111.

State Street Research Tax-Exempt Trust [File No. 811-4558]

Summary: Applicant seeks an order declaring that it has ceased to be an investment company. On March 7, 2003, applicant transferred its assets to Strong Advisor Municipal Bond Fund, a separate series of Strong Income Funds, Inc., based on net asset value. Expenses of $51,104 incurred in connection with the reorganization were paid by applicant and the acquiring fund.

Filing Dates: The application was filed on December 2, 2003, and amended on January 2, 2004.

Applicant's Address: One Financial Center, Boston, MA 02111.

Credit Suisse Trust II [File No. 811-7999]

Summary: Applicant seeks an order declaring that it has ceased to be an investment company. By October 21, 2001, all shareholders of applicant had redeemed their shares at net asset value. Expenses of $4,000 incurred in connection with the liquidation were paid by Credit Suisse Asset Management, LLC, applicant's investment adviser, or its affiliates.

Filing Dates: The application was filed on April 1, 2003, and amended on January 14, 2004.

Applicant's Address: 466 Lexington Ave., New York, NY 10017.

Van Kampen Florida Municipal Opportunity Trust [File No. 811-7726]

Summary: Applicant, a closed-end investment company, seeks an order declaring that it has ceased to be an investment company. On May 18, 2001, applicant transferred its assets to Van Kampen Trust for Investment Grade Florida Municipals, based on net asset value. Holders of applicant's auction preferred shares exchanged those shares on a one-for-one basis for auction preferred shares of the acquiring fund. Expenses of $207,288 incurred in connection with the reorganization were paid by applicant and the acquiring fund.

Filing Date: The application was filed on January 21, 2004.

Applicant's Address: 1 Parkview Plaza, Oakbrook Terrace, IL 60181-5555.

New York Life Investment Management Institutional Funds [File No. 811-10307]

Summary: Applicant seeks an order declaring that it has ceased to be an investment company. On November 12, 2003, applicant made a final liquidating distribution to its shareholders, based on net asset value. Expenses of $7,924 incurred in connection with the liquidation were paid by New York Life Investment Management LLC, applicant's investment adviser.

Filing Date: The application was filed on January 23, 2004.

Applicant's Address: 169 Lackawanna Ave., Parsippany, NJ 07054.

The India Growth Fund Inc. [File No. 811-5571]

Summary: Applicant, a closed-end investment company, seeks an order declaring that it has ceased to be an investment company. On May 30, 2003, applicant made a liquidating distribution to its shareholders, based on net asset value. As of January 21, 2004, applicant had 68 shareholders who have not returned their stock certificates. Unclaimed assets have been placed with applicant's transfer agent and will be held for the time period provided under the laws of each such shareholder's state of residence, after which time any unclaimed assets will escheat to the shareholder's state of residence. Expenses of $211,000 incurred in connection with the liquidation were paid by applicant.

Filing Dates: The application was filed on November 12, 2003 and amended on January 23, 2004.

Applicant's Address: c/o UBS Global Asset Management (US) Inc., 51 West 52nd St., New York, NY 10019.

Ayco Series Trust [File No. 811-10115]

Summary: Applicant seeks an order declaring that it has ceased to be an investment company. Shareholders approved the merger of applicant's fund on November 25, 2003, and applicant distributed its assets on December 19, 2003. The fund surviving the merger is the Goldman Sachs Capital Growth Fund, a series of Goldman Sachs Variable Insurance Trust. The Ayco Company, L.P. and Goldman Sachs Asset Management, L.P. paid expenses of $131,590.90 incurred in connection with the merger.

Filing Date: The application was filed on January 12, 2004.

Applicant's Address: One Wall Street, Albany, NY 12203-3894.

For the Commission, by the Division of Investment Management, pursuant to delegated authority.
Jill M. Peterson,
Assistant Secretary.

[FR Doc. 04-2455 Filed 2-4-04; 8:45 am]

BILLING CODE 8010-01-P